DEPARTMENT OF STATE

[Public Notice: 12334]

30-Day Notice of Proposed Information Collection: DS-157, Petition for Special Immigrant Classification for Afghan Special Immigrant Visa (SIV) Applicants

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to March 29, 2024.

ADDRESSES: Written comments and recommendations for the proposed information collection should be sent within 30 days of publication of this notice to www.reginfo.gov/public/do/PRAMain. Find this information collection by selecting “Currently under 30-day Review—Open for Public Comments” or by using the search function.

SUPPLEMENTARY INFORMATION:

• Title of Information Collection: DS-157, Petition for Special Immigrant Classification for Afghan SIV Applicant.

• OMB Control Number: 1405-0134.

• Type of Request: Extension of a Currently Approved Collection.

• Originating Office: CA/VO.

• Form Number: DS-157.

• Respondents: Afghan Special Immigrant Visa (SIV) applicants.

• Estimated Number of Respondents: 15,000.

• Estimated Number of Responses: 15,000.

• Average Time per Response: 1 hour.

• Total Estimated Burden Time: 15,000 hours.

• Frequency: Once per application.

• Obligation to Respond: Required to Obtain or Retain a Benefit.

The Visa Office is soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State uses Form DS-157, Petition for Special Immigrant Classification for Afghan SIV Applicants, in the adjudication of special immigrant visa applications under section 203(b)(4) of the Immigration and Nationality Act (“INA”) (8 U.S.C. 1153(b)(4)), as provided for under section 602(b)(1) of the AAPA. The information requested on the form is limited to that which is necessary to adjudicate the applicant's petition for classification.

Methodology

Form DS-157 is available in an electronic PDF format at travel.state.gov and must be submitted via email to the Department.

Julia M. Stufft,
Deputy Assistant Secretary, Bureau of Consular Affairs, Department of State.

[FR Doc. 2024-04112 Filed 2-27-24; 8:45 am]

BILLING CODE 4710-06-P